NATIONAL SCIENCE FOUNDATION

Notice of Permit Applications Received Under the Antarctic Conservation Act of 1978

AGENCY: National Science Foundation.

ACTION: Notice of permit applications received under the Antarctic Conservation Act of 1978, Public Law 95-541.

SUMMARY: The National Science Foundation (NSF) is required to publish a notice of permit applications received to conduct activities regulated under the Antarctic Conservation Act of 1978. NSF has published regulations under the Antarctic Conservation Act at Title 45 Part 671 of the Code of Federal Regulations. This is the required notice of permit applications received.

DATES: Interested parties are invited to submit written data, comments, or views with respect to this permit application by November 25, 2016. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Nature McGinn, ACA Permit Officer, at the above address or ACApermits@nsf.gov.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Application Details

1. Applicant: Wendell J. Long, Jr., 1401 Preston Avenue, Austin, TX 78703.

Permit Application: 2017-024.

Activity for Which Permit is Requested: Waste management permit. The applicant proposes to fly to King George Island and over the Antarctic Peninsula aboard a 2004 Pilatus PC-12 aircraft. The plane and crew will depart Punta Arenas, Chile and stop at the King George Island airfield prior to and following a non-stop flight over the Antarctic Peninsula, with a turnaround point at approximately 75 degrees South, 71 degrees West. The applicant proposes to overnight at King George Island before returning to Punta Arenas, Chile. The crew may camp unless other accommodations are arranged. All camping gear; emergency equipment and supplies; foodstuffs; garbage; and human waste will be stored in the aircraft removed from Antarctica upon departure. Gear will be new and/or de-contaminated before use in Antarctica. Emissions from the aircraft are minimized through proper engine maintenance.

Location: King George Island; West Antarctic Peninsula.

Dates: January 1-February 15, 2017.

Nadene G. Kennedy,
Polar Coordination Specialist, Division of Polar Programs.

[FR Doc. 2016-25862 Filed 10-25-16; 8:45 am]

BILLING CODE 7555-01-P